DEPARTMENT OF AGRICULTURE

Commodity Credit Corporation

Tobacco Transition Program; Final Date To Request Payments; No Change to Final Assessment Procedures

AGENCY: Commodity Credit Corporation, USDA.

ACTION: Notice.

SUMMARY: The Farm Service Agency (FSA), on behalf of the Commodity Credit Corporation (CCC), is announcing that the final date for holders of Tobacco Transition Payment Program (TTPP) contracts to request payments on their existing contracts is July 1, 2015. Through TTPP, eligible former tobacco quota holders and producers of quota tobacco received annual payments from funds that CCC collected through quarterly assessments on domestic manufacturers and importers of tobacco products under the Tobacco Transition Assessment Program (TTAP), as required by the Fair and Equitable Tobacco Reform Act of 2004 (FETRA). The authority to issue TTAP assessments ended with fiscal year 2014.

DATES: Submit claims for payment by July 1, 2015; no claims will be accepted after this date.

ADDRESSES: Any USDA FSA county office.

FOR FURTHER INFORMATION CONTACT: Kelly Dawson; telephone: (202) 720-0448. Persons with disabilities who require alternative means for communications (Braille, large print, audio tape, etc.) should contact the USDA Target Center at (202) 720-2600 (voice).

SUPPLEMENTARY INFORMATION:

Background

On behalf of CCC, FSA administers the Tobacco Transition Program (TTP), which includes TTPP and TTAP. The TTP regulations are located in 7 CFR part 1463, subpart B; TTAP regulations are located in subpart A. This notice does not change the regulations. TTPP was authorized by Title VI of the American Jobs Creation Act of 2004 (Pub. L. 108-357). Title VI is also known as FETRA (7 U.S.C. 518-519a). FETRA repealed the tobacco marketing quota and related price support programs authorized by Title III of the Agricultural Adjustment Act of 1938 and by the Agricultural Act of 1949, and provided for payments to persons who were owners of farms with tobacco quotas, or who were producers of quota tobacco. As specified in FETRA, TTPP used funds from assessments collected quarterly from domestic tobacco manufacturers and importers to make TTPP contract payments; those payments ended with fiscal year 2014. There will be no new TTPP contracts issued; the July 1, 2015 deadline is only for claims for payment under existing contracts.

Final TTPP Contract Payments Procedures

FSA is clarifying a few final procedures and dates for both the orderly close-out of TTPP, and the effect of the former on the close-out of the TTAP. Accordingly, this notice clarifies how final payments will be handled after fiscal year 2014. Specifically, all claims for payments on existing contracts must be received in an FSA county office by July 1, 2015. This notice will also discuss the final “true-up” for TTAP.

FSA has already made every effort to pay in full existing TTPP contract holders. We believe that the only remaining pending payments are those that may be due to the surviving spouses, beneficiaries of an estate, or successors in interest of now-deceased contract holders.

In accordance with 7 CFR 1463.113, the TTPP payment can be transferred to the surviving spouse of a deceased TTPP contract holder upon presentation of a death certificate, without regard to any will or other document created on behalf of or by the deceased contract holder. If there is no surviving spouse of a deceased contract holder, the TTPP payment can be transferred to the estate of the deceased by any person authorized under State law to distribute assets of the deceased TTPP contract holder. The regulations for successor-in-interest contracts are found in 7 CFR 1463.112. This notice does not change those regulations. Evidence of authority to distribute assets of a deceased TTPP contract holder must be submitted to FSA by July 1, 2015.

Persons who are surviving spouses, beneficiaries of an estate, or successors in interest may not have received payment if contact information was not provided to FSA in a timely fashion, or if the right to receive such payments was not documented as required. Any such persons who wish to receive payments must provide contact information, present evidence of authority to distribute assets (if applicable), and submit a claim for payment, using form CCC-971, “Transfer of Tobacco Transition Payment Program Contracts Exempt From Maximum Discount Rate,” to a local FSA county office. The CCC-971 form must have an original signature. All of the above information and form CCC-971 must be submitted to any local FSA office either in person, or received by mail, no later than July 1, 2015. Form CCC-971 is available online at http://forms.sc.egov.usda.gov/efcommon/eFileServices/eForms/CCC971-971-A.PDF.

Final Assessment Procedures Will Not Change

This notice does not change the final dates or procedures for assessments that were specified in the most recent final rule for TTAP, published on April 9, 2014 (79 FR 19462-19464). As specified in the preamble of that final rule, FSA will make any necessary final “trued up” revisions to the assessments for all 10 fiscal years of the Tobacco Transition Program and issue revised assessments on or before December 1, 2015. The final “trued up” assessment will include any adjustments needed to cover payments made for final claims for payments on existing TTPP contracts received by July 1, 2015. After December 1, 2015, there will be no revised assessments issued for any fiscal years. The final date for appeals of assessments is January 16, 2016, as specified in 7 CFR 1463.11; that date is not changing with this notice.

Signed on April 27, 2015.
Val Dolcini,
Administrator, Farm Service Agency, and Executive Vice President, Commodity Credit Corporation.

[FR Doc. 2015-10056 Filed 4-29-15; 8:45 am]

BILLING CODE 3410-05-P